DEPARTMENT OF HOMELAND SECURITY

U.S. Customs and Border Protection

Agency Information Collection Activities: Distribution of Continued Dumping and Subsidy Offset to Affected Domestic Producers (CDSOA)

AGENCY: U.S. Customs and Border Protection, Department of Homeland Security.

ACTION: 60-Day Notice and request for comments; Revision of an existing collection of information: 1651-0086.

SUMMARY: As part of its continuing effort to reduce paperwork and respondent burden, U.S. Customs and Border (CBP) invites the general public and other Federal agencies to comment on an information collection requirement concerning the Distribution of Continued Dumping and Subsidy Offset to Affected Domestic Procedures. This request for comment is being made pursuant to the Paperwork Reduction Act of 1995 (Pub. L. 104-13; 44 U.S.C. 3506(c)(2)(A)).

DATES: Written comments should be received on or before June 1, 2010, to be assured of consideration.

ADDRESSES: Direct all written comments to U.S. Customs and Border Protection, Attn.: Tracey Denning, U.S. Customs and Border Protection, Office of Regulations and Rulings, 799 9th Street, NW., 7th Floor, Washington, DC 20229-1177.

FOR FURTHER INFORMATION CONTACT: Requests for additional information should be directed to U.S. Customs and Border Protection, Attn.: Tracey Denning, U.S. Customs and Border Protection, Office of Regulations and Rulings, 799 9th Street, NW., 7th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3506(c)(2)(A)). The comments should address the accuracy of the burden estimates and ways to minimize the burden including the use of automated collection techniques or the use of other forms of information technology, as well as other relevant aspects of the information collection. The comments that are submitted will be summarized and included in the CBP request for Office of Management and Budget (OMB) approval. All comments will become a matter of public record. In this document CBP is soliciting comments concerning the following information collection:

Title: Distribution of Continued Dumping and Subsidy Offset to Affected Domestic Producers (CDSOA).

OMB Number: 1651-0086.

Form Number: 7401.

Abstract: This collection of information is required to implement the Continued Dumping and Subsidy Offset Act of 2000 (CDSOA). This Act prescribes the administrative procedures, including the time and manner, under which antidumping and countervailing duties assessed on imported products are distributed to affected domestic producers that petitioned for or supported the issuance of the order under which the duties were assessed. The amount of any distribution afforded to these domestic producers is based upon certain qualifying expenditures that they incur after the issuance of the order or finding. This distribution is known as the continued dumping and subsidy offset. The claims process for the CDSOA program is provided for in 19 CFR 159.61 and 159.63.

CBP Form 7401 captures the information from claimants that CBP needs to determine how the distributions are made. This form is published in the Federal Register in June of each year in order to inform claimants that they can make claims under the CDSOA program and also provide them with a copy of the form. The form can also be submitted electronically through http://www.pay.gov.

In order to expedite the distribution process, CBP proposes to add two data elements to both the paper form and the electronic form, including: “Start Date of Qualifying Expenditures” and “End Date of Qualifying Expenditures”.

Current Actions: This submission is being submitted to extend the expiration date with a revision to Form 7401 and to the on-line application.

Type of Review: Revision and extension of an existing information collection.

Affected Public: Businesses.

Estimated Number of Respondents: 2,000.

Estimated Time per Respondent: 1 hour.

Estimated Total Annual Burden Hours: 2,000.

Dated: March 29, 2010.
Tracey Denning,
Agency Clearance Officer, U.S. Customs and Border Protection.

[FR Doc. 2010-7289 Filed 3-31-10; 8:45 am]

BILLING CODE 9111-14-P